Title 3—

The President

Proclamation 9933 of September 27, 2019

National Domestic Violence Awareness Month, 2019

By the President of the United States of America

A Proclamation

Domestic violence poisons relationships, destroys lives, and shatters the bedrock of our society—the family. Homes should be places of comfort and stability where love and mutual respect thrive. Domestic violence erodes this environment, leaving many Americans in potentially life-threatening situations. As a Nation, we must resolve to have zero tolerance for acts of domestic violence. During National Domestic Violence Awareness Month, we reaffirm our steadfast commitment to empowering survivors and ending this deeply destructive abuse.

Domestic violence affects Americans regardless of income, race, gender, or socioeconomic status. Still, women make up a disproportionately higher number of victims of domestic violence, with nearly half of female homicide victims killed by a current or former male partner. Each of us has a duty to speak out against these crimes and to make every effort to prevent such tragedies from occurring. Together, we can ensure those who have suffered at the hands of abusers receive needed care and support, and we can protect potential victims from future abuse.

My Administration has made it a priority to provide victims of domestic violence with needed assistance. The Department of Justice's Office on Violence Against Women (OVW) funds critical services and training across the country to prevent domestic violence and to support law enforcement efforts to hold domestic violence offenders accountable for their crimes. To support law enforcement in Alaska Native villages and address the complex, unique, and dire public safety challenges those communities are facing, OVW is funding specialized training and technical assistance on enforcement of Tribal protection orders. In fiscal years 2018 and 2019, approximately $8 billion—a historic amount—has been made available for victim services through the Department of Justice's Office for Victims of Crime, funding more than 3,000 domestic violence local service providers and national domestic violence hotlines. These services assist more than 2 million domestic violence victims annually, helping individuals and families heal from physical and psychological wounds.

The Department of Health and Human Services (HHS) provides resources to help survivors of domestic violence rebuild safe, stable, and self-sufficient lives. HHS supports initiatives to train healthcare providers to assist those who have suffered from domestic violence. Through Project Catalyst, clinics are educating all patients about domestic violence, sexual violence, and human trafficking, and they are connecting people in need to local service providers. In fiscal year 2019, HHS provided 143 grants to Tribes and Tribal organizations to assist in efforts to increase public awareness about domestic violence and to provide immediate shelter and supportive services for victims and their children.

This month, we strengthen our resolve to ensure homes are places of refuge, comfort, and protection—and not places of fear and abuse. We renew our commitment to support and protect victims, hold perpetrators accountable, and prevent violence before it starts. We strive to eliminate domestic violence in all its horrific forms in order to sustain the hope of a better life for victims and to foster safer homes and relationships for all Americans.

NOW, THEREFORE, I, DONALD J. TRUMP, President of the United States of America, by virtue of the authority vested in me by the Constitution and the laws of the United States, do hereby proclaim October 2019 as National Domestic Violence Awareness Month. I call upon all Americans to stand firm in condemning domestic violence and supporting survivors of these crimes in finding the safety and recovery they need. I also call upon all Americans to support, recognize, and trust in the efforts of law enforcement and public health and social services providers to hold offenders accountable, protect victims of crime and their communities, and prevent future violence.

IN WITNESS WHEREOF, I have hereunto set my hand this twenty-seventh day of September, in the year of our Lord two thousand nineteen, and of the Independence of the United States of America the two hundred and forty-fourth.

[FR Doc. 2019-21616

Filed 10-1-19; 11:15 am]

Billing code 3295-F0-P